DEPARTMENT OF ENERGY

Federal Energy Regulatory Commission

[Docket Nos. ER05-1065-000; ER09-555-000]

Entergy Services, Inc.; Notice of Conference

April 17, 2009.

Take notice that the Federal Energy Regulatory Commission, in conjunction with the Arkansas Public Service Commission, the Louisiana Public Service Commission, the Mississippi Public Service Commission, the Public Utility Commission of Texas, and the Council of the City of New Orleans, will host a conference on Wednesday, June 24, 2009, as mentioned in the order issued March 17, 2009, in Docket No. ER09-555-000.¹ The purpose of the conference is for the commissions, Entergy, the Southwest Power Pool, Inc.,² and stakeholders, to discuss the Independent Coordinator of Transmission arrangement and transmission access issues on Entergy's transmission system.

¹ Entergy Services, Inc., 126 FERC ¶ 61,227, at P 82 (2009).

² Entergy contracted with the Southwest Power Pool, Inc. to be its Independent Coordinator of Transmission.

The conference will be held at the Charleston Place Hotel in Charleston, South Carolina. The conference is scheduled to begin at 9 a.m. (EST) and end at approximately 3 p.m.

Subsequent notices will be issued regarding further details and the agenda for this conference.

All interested parties are invited to attend. Pre-registration is not required. There is no fee to attend.

Transcripts of the conference will be available immediately for a fee from Ace Reporting Company (202-347-3700 or 1-800-336-6646) and will be available for free on the Commission's eLibrary system and on the Calendar of Events approximately one week after the conference.

For additional information, please contact Penny Murrell at (202) 502-8531 or penny.murrell@ferc.gov, or Sam Loudenslager at (501) 682-5824 or sloudenslager@psc.state.ar.us.

Kimberly D. Bose,
Secretary.

[FR Doc. E9-9598 Filed 4-27-09; 8:45 am]

BILLING CODE 6717-01-P